DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and Title 30 of the Code of Federal Regulations Part 44 govern the application, processing, and disposition of petitions for modification. This notice is a summary of petitions for modification submitted to the Mine Safety and Health Administration (MSHA) by the parties listed below.

DATES: All comments on the petitions must be received by the MSHA's Office of Standards, Regulations, and Variances on or before October 13, 2015.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Acting Director, Office of Standards, Regulations, and Variances. Persons delivering documents are required to check in at the receptionist's desk in Suite 4E401. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2015-016-C.

Petitioner: Booth Energy LLC, P. O. Box 190, Lovely, Kentucky 41231.

Mines: Matrix Energy LLC, No. 1 Mine, MSHA I.D. No. 15-18575; Coalburg Enterprises Inc., No. 9 Mine, MSHA I.D. No. 15-19625; Eagle Coal Company Inc., No. 25 Mine, MSHA I.D. No. 15-19488, all located in Martin County, Kentucky; and Coalburg Enterprises Inc., No. 7 Mine, MSHA I.D. No. 15-19509, located in Lawrence County, Kentucky.

Regulation Affected: 30 CFR 75.1506(a)(1) (Refuge alternatives).

Modification Request: The petitioner requests a modification of the existing standard to allow for alternate examination of Mine Shield underground shelters. The petitioner seeks modification of the standard as it applies to testing, examinations, and repairs by the refuge manufacturer (Mine Shield LLC located at 322 Crab Orchard Road, Lancaster, Kentucky 40444). The petitioner states that:

(1) There are a total of 17 shelters installed in the mines listed above, which are of three different types manufactured by Mine Shield LLC. Type A is the CF210A model; type B is the CF208A model; and type C is the CF208B model. All the units have been retrofitted as prescribed by MSHA.

(2) Testing and examination cannot be accomplished according to the manufacturer's recommendation since Mine Shield LLC is no longer in business.

(3) The testing, examinations and repairs as required by the manufacturer's recommendation cannot be conducted since the manufacturer's technicians are no longer available. The petitioner proposes to:

—Have certified and qualified persons as defined in 30 CFR 75.151 conduct all testing, examination, and repairs. Items to be tested, examined, and repaired are listed in Attachment C of this petition. A sufficient number of trained personal will be provided, a list of qualified examiners will be posted at each mine, and proof of training will be verifiable by MSHA forms 5000-23.

—Adhere to and comply with all provisions of the Manufacturer's Service Manual on all shelters.

—Train all examiners and repairmen through the WHA International Inc., Mr. Elliot Forsyth, BSME PE Chief, Technical Training Officer, Senior Oxygen Safety & Forensic Engineer, or his equivalent, on Level 1, Level 2, and Level 3.

—Train all examiners and repairmen in use of, and equip them with, a state of the art IBRID MX6 Gas Monitor (MSHA approval #07-LPA-130006, Part Approval #222-A080002-0) gas monitoring device manufactured by Industrial Scientific Inc.

—Record and retain the results of all examinations, tests, and repairs for one year and make available to MSHA.

Within 60 days after the Proposed Decision and Order (PDO) becomes final, the petitioner will submit proposed revisions for its approved part 48 training plan to the District Manager. These proposed revisions will specify initial and refresher training regarding the terms and conditions stated in the PDO.

The petitioner asserts that application of the existing standard will result in diminution of safety the miners and that the proposed alternative method will guarantee no less than the same measure of protection afforded by the existing standard.

Docket Number: M-2015-017-C.

Petitioner: ICG Illinois, LLC, 5945 Lester Road, Williamsville, Illinois 62693.

Mine: Viper Mine, MSHA I.D. No. 11-02664, located in Sangamon County, Illinois.

Regulation Affected: 30 CFR 75.312(c) (Main mine fan examinations and records).

Modification Request: The petitioner requests a modification of the existing standard to allow the automatic fan signal device to be tested every 31 days without stopping the fan each time the device is tested. The petitioner states that:

1. The Viper Mine's existing automatic fan signal device is a Model CT7100 Omega Circular Chart Recorder. The device continuously monitors and records the fan's operating pressure.

2. The main mine fan has a normal operating pressure of approximately 8 inches of water gauge, as measured by the chart recorder.

3. An alarm signal will be activated when the fan pressure falls below 6 inches of water gauge. The petitioner proposes to:

—Install a lockable ball valve in the tubing connecting the chart recorder to the fan ductwork where pressure is measured and another between the tubing and the natural atmosphere.

—Close the valve to the atmosphere and open the valve to the fan ductwork during normal operation to allow the chart recorder to continuously monitor the fan pressure when the fan is running.

—Close the valve to the fan ductwork and open the valve to the atmosphere during the 31-day checks to allow the pressure to the chart recorder to drop and signal the alarm indicating loss of fan pressure. In conjunction with the proposed 31-day fan signal checks, the petitioner will conduct a fan signal check by stopping the fan at intervals not to exceed six months.

The petitioner asserts that the proposed alternative method will guarantee no less than the same measure of protection afforded by the existing standard.

Docket Number: M-2015-018-C.

Petitioner: Macoupin Energy, LLC, P.O. Box 615, 14300 Brushy Mound Road, Carlinville, Illinois 62626.

Mine: Shay #1 Mine, MSHA I.D. No. 11-00726, located in Macoupin County, Illinois.

Regulation Affected: 30 CFR 75.1909(b)(6) (Nonpermissible diesel-powered equipment; design and performance requirements).

Modification Request: The petitioner requests an amendment to a previously granted petition for modification of January 2, 2000, for the Monterey Coal Company, Docket Number M-1999-56-C, to train operators to lower the moldboard (grader blade) in emergency conditions, which will provide an equivalent level of safety to the standard's requirement that each wheel of the grader be equipped with services brakes. The petitioner states that:

1. On January 22, 2009, Macoupin Energy, LLC acquired Monterey #1 Mine from Monterey Coal Company and renamed the mine Shay #1 Mine. The MSHA Mine I.D. (No. 11-00726) and the address remain the same. MaRyan Mining, LLC is the contracted operator of the mine.

2. The approved petition is for a Getman Grader Model No. RDG 1504S, Serial No. 6345.

3. Macoupin Energy is requesting the approved petition be amended to add a second Getman Grader Model No. RDG 1504C, Serial No. 6718. This grader is similar to the currently approved grader and would also be provided an equivalent level of safety to the standard's requirement that each wheel of the grader be equipped with service brakes by training the grader operator to lower the moldboard in emergency conditions.

4. The grader has 12.00 × 20.00 tires, which also limit the speed to 10 miles per hour.

The petitioner requests that the terms and conditions of the previously granted petition be applied to the additional grader, which the petitioner asserts will provide an equivalent level of safety as the existing standard.

Dated: September 3, 2015.
Sheila McConnell,
Acting Director, Office of Standards, Regulations, and Variances.

[FR Doc. 2015-22736 Filed 9-9-15; 8:45 am]

BILLING CODE 4510-43-P